DEPARTMENT OF HEALTH AND HUMAN SERVICES

National Institutes of Health

Eunice Kennedy Shriver National Institute of Child Health and Human Development; Notice of Proposed Reorganization

AGENCY: National Institutes of Health, HHS.

ACTION: Notice.

SUMMARY: The Eunice Kennedy Shriver National Institute of Child Health and Human Development (NICHD) will host a meeting to enable public discussion of the Institute's proposal to reorganize its Division of Extramural Research.

DATES: This virtual public meeting will take place on August 8 from 10:00-11:00 a.m. ET. Members of the public are welcome to attend and do not need to RSVP.

ADDRESSES: The meeting will take place at via webinar at https://nih.zoomgov.com/j/1606532813. American Sign Language interpreting services are available upon request. Individuals who need interpreting services and/or other reasonable accommodations to participate in this event, should contact Elizabeth Cushman at Elizabeth.cushman@nih.gov. Requests should be made at least five business days in advance in order to ensure interpreter availability.

FOR FURTHER INFORMATION CONTACT: Ms. Jessica Wu, Chief of the Management Analysis and Workforce Branch, Eunice Kennedy Shriver National Institute of Child Health and Human Development, 31 Center Drive, Bethesda, MD 20892, telephone: 301-443-3219, email: wuj5@mail.nih.gov.

SUPPLEMENTARY INFORMATION: In accordance with the NIH Reform Act of 2006 (42 U.S.C. Sec.281 (d)(4)), NICHD will have a public meeting to discuss the proposed reorganization plans. NICHD proposal would simplify the organizational structure of the NICHD, create new organizational components to reduce `siloing', increase administrative efficiencies, facilitate transdisciplinary research and idea exchange, and benefit the institute's internal and external communities. The proposal seeks to capitalize on emerging scientific opportunities, while reducing barriers to scientific and interdisciplinary collaboration.

Dated: July 1, 2022.
Alison N. Cernich,
Deputy Director, Eunice Kennedy Shriver National Institute of Child Health and Human Development, National Institutes of Health.

[FR Doc. 2022-14432 Filed 7-6-22; 8:45 am]

BILLING CODE 4140-01-P